FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202)-523-5793 or tradeanalysis@fmc.gov.

Agreement No.: 201203-006.

Title: Port of Oakland/Oakland MTO Agreement.

Parties: Everport Terminal Services Inc.; Port of Oakland; SSA Terminals (Oakland), LLC; SSA Terminals, LLC; and TraPac LLC.

Filing Party: Wayne Rohde; Cozen O'Connor; 1200 Nineteenth Street NW, Washington, DC 20036.

Synopsis: The amendment deletes Ports America Outer Harbor Terminal, LLC as a party to the Agreement, updates the address of Everport Terminals Service, Inc., and corrects the name of Trapac, LLC.

Agreement No.: 201243.

Title: COSCO SHIPPING/WHL Slot Charter Agreement.

Parties: COSCO Shipping Lines Co., Ltd.; Wan Hai Lines (Singapore) Pte. Ltd.; and Wan Hai Lines Ltd.

Filing Party: Eric Jeffrey; Nixon Peabody LLP; 799 9th Street NW, Suite 500, Washington, DC 20001.

Synopsis: The Agreement authorizes COSCO Shipping to charter slots to WHL on an as needed/as available basis in the trade between China (including Hong Kong) and the United States Pacific Coast.

Agreement No.: 201244.

Title: ONE/APL AHX Space Charter Agreement.

Parties: Ocean Network Express Pte. Ltd., and APL Co. Pte. Ltd. and American President Lines, LLC (operating as one party).

Filing Party: Joshua Stein; Cozen O'Connor; 1200 Nineteenth Street NW, Washington, DC 20036.

Synopsis: The agreement authorizes ONE to charter space to APL and for the parties to enter into arrangements related to the chartering of such space in the trades between ports in China and Korea on one hand and ports in Hawaii on the other hand.

Dated: April 6, 2018.
Rachel Dickon,
Secretary.

[FR Doc. 2018-07483 Filed 4-10-18; 8:45 am]

BILLING CODE 6731-AA-P